DEPARTMENT OF ENERGY

Environmental Management Site-Specific Advisory Board Chairs Meeting

AGENCY: Department of Energy.

ACTION: Notice of open meeting.

SUMMARY: This notice announces a meeting of the Environmental Management Site-Specific Advisory Board (EMSSAB) Chairs. The Federal Advisory Committee Act (Pub. L. No. 92-463, 86 Stat. 770) requires that public notice of these meetings be announced in the Federal Register.

DATES: Thursday, October 7, 2004, 8:30 a.m.-5 p.m., Friday, October 8, 2004, 8:30 a.m.-12 p.m.

ADDRESSES: Red Lion Hanford House, 802 George Washington Way, Richland, WA 99352, Phone: (509) 946-7611.

FOR FURTHER INFORMATION CONTACT: Jay Vivari, Program Management Specialist (EM30.1), Department of Energy, 1000 Independence Avenue, SW., Washington, DC 20585, (202) 586-5143.

SUPPLEMENTARY INFORMATION: Purpose of the Board: The purpose of the EMSSAB is to make recommendations to DOE in the areas of environmental restoration, waste management, and related activities.

Tentative Agenda

Thursday, October 7, 2004:

8:30 a.m.—Welcome; introductions; meeting expectations (Waisley; Lowe, Mabie).

8:45 a.m.—Round Robin 1: Top Three Issues for Each Site-Specific Advisory Board.

10 a.m.—Break.

10:15 a.m.—Round Robin 2: Site-Specific Advisory Boards' Organizational Challenges.

11:30 a.m.—Potential National Stakeholders Workshop.

11:45 a.m.—Public comment period.

Noon—Lunch.

1 p.m.—Hanford's Role in the Department of Energy's Complex and How Stakeholders Influence That Role.

1:45 p.m.—Round Robin 3: Current Developments Related to Interdependencies Among Department of Energy Sites for Waste Disposition.

2:30 p.m.—Break.

2:45 p.m.—Hanford Panel: Perspectives on Shipping and Receiving Waste at Hanford.

3:45 p.m.—Facilitated discussion—Vulnerabilities of the Current Waste Disposition Plan and Ramification for All Intersite Transfers.

4:30 p.m.—Public comment period.

4:45 p.m.—Next steps.

Friday, October 8, 2004:

8:30 a.m.—Opening.

8:45 a.m.—Department of Energy headquarters organizational changes, fiscal year 2005 budget, and the outlook for fiscal year 2006/Waisley.

9:15 a.m.—Potential National Stakeholders Workshop (continued).

9:45 a.m.—Break.

10 a.m.—Panel discussion—Ongoing Transition from Environmental Management to Legacy Management at Rocky Flats and Fernald.

10:30 a.m.—Facilitated discussion.

11:30 a.m.—Public comment period.

11:45 a.m.—Meeting wrap-up.

Public Participation: The meeting is open to the public. Written statements may be filed with the Committee either before or after the meeting. Individuals who wish to make oral statements pertaining to agenda items should contact Jay Vivari at the address above or by telephone at (202) 586-5143. Requests must be received five days prior to the meeting and reasonable provision will be made to include the presentation in the agenda. The Designated Federal Officer is empowered to conduct the meeting in a fashion that will facilitate the orderly conduct of business. Each individual wishing to make public comment will be provided a maximum of five minutes to present their comments at the end of the meeting.

Minutes: Minutes of this meeting will be available for public review and copying at the Freedom of Information Public Reading Room, 1E-190, Forrestal Building, 1000 Independence Avenue, SW., Washington, DC 20585 between 9 a.m. and 4 p.m., Monday-Friday except Federal holidays. Minutes will also be available by calling Jay Vivari at (202) 586-5143.

Issued at Washington, DC on September 16, 2004.
Rachel Samuel,
Deputy Advisory Committee Management Officer.

[FR Doc. 04-21384 Filed 9-22-04; 8:45 am]

BILLING CODE 6450-01-P